DEPARTMENT OF ENERGY

Federal Energy Regulatory Commission

[Docket No. RP02-119-000]

Dominion Transmission, Inc.; Notice of Proposed Changes in FERC Gas Tariff

December 11, 2001.

Take notice that on December 4, 2001, Dominion Transmission Inc. (DTI), tendered for filing as part of its FERC Gas Tariff, Third Revised Volume No. 1, the following revised tariff sheets, with an effective date of December 5, 2001:

Second Revised Sheet No. 1076

First Revised Sheet No. 1077

DTI states that the purpose of this filing is to eliminate the North of Valley Operational Flow Order. DTI requests a waiver of the 30-day notice requirement and an effective date of December 5, 2001.

DTI states that copies of its letter of transmittal and enclosures have been served upon DTI's customers and interested state commissions.

Any person desiring to be heard or to protest said filing should file a motion to intervene or a protest with the Federal Energy Regulatory Commission, 888 First Street, NE., Washington, DC 20426, in accordance with § 385.214 or § 385.211 of the Commission's Rules and Regulations. All such motions or protests must be filed in accordance with § 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-31082 Filed 12-17-01; 8:45 am]

BILLING CODE 6717-01-P